RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s):

(1) Collection title: Employer Service and Compensation Reports.

(2) Form(s) submitted: UI-41, UI-41a.

(3) OMB Number: 3220-0070.

(4) Expiration date of current OMB clearance: 9/30/2001.

(5) Type of request: Revision of a currently approved collection.

(6) Respondents: Business or other for-profit.

(7) Estimated annual number of response: 3000.

(8) Total annual responses: 0.

(9) Total annual reporting hours: 400.

(10) Collection description: The reports obtain the employee's service and compensation for a period subsequent to those already on file and the employee's base year compensation. The information is used to determine the entitlement to and the amount of benefits payable.

Additional Information or Comments: Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Marcie Brown (202-395-7316), Office of Management and Budget, Room 10230, New Executive Office Building, Washington, D.C. 20503.

Chuck Mierzwa,
Clearance Officer.

[FR Doc. 01-19946 Filed 8-8-01; 8:45 am]

BILLING CODE 7905-01-M